ENVIRONMENTAL PROTECTION AGENCY

[ER-FRL-8992-3]

Environmental Impacts Statements; Notice of Availability

Responsible Agency: Office of Federal Activities, General Information (202) 564-1399 or http://www.epa.gov/compliance/nepa/.

Weekly receipt of Environmental Impact Statements

Filed 08/09/2010 through 08/13/2010.

Pursuant to 40 CFR 1506.9.

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100318, Draft Supplement, FHWA, AR, River Valley Intermodal Facilities, New and Updated Information, Construction and Operation of Multi-Modal Transportation Complex, U.S. Army COE Section 10 and 404 Permits, City of Russellville, Pope County, AR, Comment Period Ends: 10/08/2010, Contact: Randal J. Looney 501-324-5625.

EIS No. 20100319, Final EIS, NOAA, 00, Amendment 17A to the Fishery Management Plan for the Snapper Grouper Fishery of the South Atlantic Region, To Implement Long-Term Management Measures Expected to End Overfishing of the Red Snapper Stock, South Atlantic Region, Wait Period Ends: 09/20/2010, Contact: Roy E. Crabtree 727-824-5305.

EIS No. 20100320, Final EIS, FHWA, MN, U.S. 14 Construction, Owatonna to Kasson, Funding and Section 404 Permit, Dodge and Steele Counties, MN, Wait Period Ends: 09/20/2010, Contact: Phil Forst 651-291-6110.

EIS No. 20100321, Final EIS, NPS, KY, Cumberland Gap National Historical Park, General Management Plan, Implementation, Middlesboro, KY, Wait Period Ends: 09/20/2010, Contact: David Libman 404-507-5701.

EIS No. 20100322, Draft EIS, USAF, 00, Powder River Training Complex Project, Proposal to Improve Airspace for Training, Primarily, B-1 Aircrews at Ellsworth AFB, South Dakota, and B-52 Aircrews at Minot AFB, North Dakota, Comment Period Ends: 11/17/2010, Contact: Linda Devine 757-964-9434.

EIS No. 20100323, Draft Supplement, BLM, NV, Cortez Hills Expansion Project, Updated Information to Refine the Analysis of Specific Air Quality Effects and Dewatering Mitigation Effectiveness, Proposes to Construct and Operate a New Facilities and Expansion of the Existing Open-Pit Gold Mining and Processing Operations, Crescent Valley, Lander and Eureka Counties, NV, Comment Period Ends: 10/04/2010, Contact: Christopher Worthington 775-635-4000.

EIS No. 20100324, Final EIS, BR, ID, Minidoka Dam Spillway Replacement Project, To Prevent Structural Failure of the Minidoka Dam Spillway and Canal Headworks, Lake Walcott, Minidoka County, ID, Wait Period Ends: 09/20/2010, Contact: Jim Taylor 208-378-5081.

EIS No. 20100325, Draft EIS, NRC, AZ, GENERIC EIS—License Renewal of Nuclear Plants, Regarding Palo Verde Nuclear Generating Station, Supplement 43, NUREG-1437, Maricopa County, AZ, Comment Period Ends: 10/29/2010, Contact: David Drucker 301-415-6223.

EIS No. 20100326, Draft EIS, NPS, SD, South Unit—Badlands National Park, General Management Plan, Implementation, SD, Comment Period Ends: 10/18/2010, Contact: Eric J. Brunnemann 605-433-5361.

EIS No. 20100327, Draft EIS, BLM, NM, Alamogordo Regional Water Supply Project, Construct and Operate Groundwater Wells, Right-of-Way Application, Otero County, NM, Comment Period Ends: 10/18/2010, Contact: Rena Gutierrez 575-525-4338.

EIS No. 20100328, Final EIS, DOE, KS, Abengoa Biorefinery Project, To Support the Design, Construction, and Startup of a Commercial-Scale Integrated Biorefinery, Federal Funding, Located near the City Hugoton, Stevens County, KS, Wait Period Ends: 09/09/2010, Contact: Kristin Kerwin 720-356-1564.

EIS No. 20100329, Final EIS, BLM, CA, Blythe Solar Power Project (09-AFC-6), Application for Right-of Way Grant to Construct and Operate, and Decommission a Solar Thermal Facility on Public Lands, Riverside County, CA, Wait Period Ends: 09/20/2010, Contact: Allison Shaffer 760-833-7104.

Dated: August 17, 2010.
Ken Mittelholtz,
Deputy Director, NEPA Compliance Division, Office of Federal Activities.

[FR Doc. 2010-20702 Filed 8-19-10; 8:45 am]

BILLING CODE 6560-50-P